NATIONAL SCIENCE FOUNDATION

Advisory Panel for Genetics; Notice of Meeting

In accordance with Federal Advisory Committee Act (Pub. L. 92-463, as amended), the National Science Foundation announces the following meeting.

Name: Advisory Panel for Genetics (1149) Panel B.

Date/Time: May 3-5, 2001, 8:30 a.m. to 5 p.m.

Place: National Science Foundation, Room 360, 4201 Wilson Boulevard, Arlington, VA.

Type of Meeting: Closed.

Contact Person: Drs. Linda Hyman and Philip Harriman Program Directors, Molecular and Cellular Biosciences Division, National Science Foundation, Room 655, 4201 Wilson Boulevard, Arlington, VA 22230. (703) 292-8439.

Purpose of Meeting: To provide advice and recommendations concerning proposals submitted to NSF for financial support.

Agenda: To review and evaluate Eukaryotic Genetics Proposals as part of the selection process for awards.

Reason for Closing: The proposals being reviewed include information of a proprietary or confidential nature, including technical information; financial data, such as salaries; and personal information concerning individuals associated with the proposals. These matters are exempt under 5 U.S.C. 552b(c) (4) and (6) of the Government in the Sunshine Act.

Dated: March 13, 2001.
Susanne Bolton,
Committee Management Officer.

[FR Doc. 01-6576 Filed 3-15-01; 8:45 am]

BILLING CODE 7555-01-M